DEPARTMENT OF COMMERCE

National Oceanic and Atmospheric Administration

[RTID 0648-XA086]

Atlantic Highly Migratory Species; Draft Amendment 12 to the 2006 Consolidated Atlantic Highly Migratory Species Fishery Management Plan

AGENCY: National Marine Fisheries Service (NMFS), National Oceanic and Atmospheric Administration (NOAA), Commerce.

ACTION: Availability of a draft fishery management plan amendment; request for comments.

SUMMARY: NMFS announces the availability of Draft Amendment 12 to the 2006 Consolidated Atlantic Highly Migratory Species (HMS) Fishery Management Plan (FMP). The Draft Amendment responds to revisions to the Magnuson-Stevens Fishery Conservation and Management Act (Magnuson-Stevens Act) National Standard (NS) guidelines, a rulemaking addressing reporting methodologies for bycatch as defined under the Magnuson-Stevens Act, and recent NMFS policy directives which aim to improve and streamline fishery management procedures to enhance their utility for managers and the public. This draft amendment does not include a proposed rule or regulatory text. Any operational changes to fishery management measures as a result of Amendment 12 would be considered in future rulemakings, as appropriate.

DATES: Written comments must be received by October 26, 2020. NMFS will hold two public hearings via conference calls and webinars for this draft amendment on September 23, 2020, from 2 p.m. to 4 p.m., and September 29, 2020 from 3 p.m. to 5 p.m. For specific dates and times, see the SUPPLEMENTARY INFORMATION section of this document.

ADDRESSES: Electronic copies of Draft Amendment 12 to the 2006 Consolidated HMS FMP may be obtained on the internet at: https://www.fisheries.noaa.gov/action/amendment-12-2006-consolidated-hms-fishery-management-plan-msa-guidelines-and-national. If available, hard copies may be obtained by contacting Rick Pearson at 727-824-5399. You may submit comments on this document, identified by NOAA-NMFS-2019-0096, by any of the following methods:

• Electronic Submission: Submit all electronic public comments via the Federal e-Rulemaking Portal. Go to www.regulations.gov, enter NOAA-NMFS-2019-0096 into the search box, click the “Comment Now!” icon, complete the required fields and enter, or attach your comments.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Rick Pearson at 727-824-5399 or by email at rick.a.pearson@noaa.gov or Sarah McLaughlin by email at sarah.mclaughlin@noaa.gov.

SUPPLEMENTARY INFORMATION: The Magnuson-Stevens Act requires that any FMP or FMP amendment be consistent with 10 National Standards (NS). In 2016, NMFS published a final rule revising the guidelines for NS1, NS3, and NS7 to improve and clarify the guidance and to facilitate compliance with requirements of the Magnuson-Stevens Act to end and prevent overfishing, rebuild overfished stocks, and achieve optimum yield (OY) (81 FR 71858, October 18, 2016). The final rule on the NS guidelines included a recommendation that FMP objectives should be reassessed on a regular basis to reflect the changing needs of fisheries over time. Although no time frame was prescribed, the guidelines indicated that NMFS should provide notice to the public of the expected schedule for review. The final rule also noted that, for stocks managed under international agreements, consistent with provisions in the Magnuson-Stevens Act, NMFS may decide to use the international stock status determination criteria (SDC) defined by the relevant international body (e.g., the International Commission for the Conservation of Atlantic Tunas (ICCAT)). Thus, Draft Amendment 12 reassesses, and proposes revisions to the objectives contained in the 2006 Consolidated Atlantic HMS FMP, and proposes the adoption of ICCAT SDC for ICCAT-managed HMS.

The Magnuson-Stevens Act further requires that any FMP, with respect to any fishery, establish standardized bycatch reporting methodology (SBRM) to assess the amount and type of bycatch occurring in a fishery. On January 19, 2017, NMFS published a final rule (82 FR 6317) to interpret and provide guidance on this requirement. Specifically, the 2017 final rule indicated that each FMP must identify the required procedure or procedures that constitute the SBRM for a fishery and conduct an analysis that explains how the SBRM meets the purposes described at 50 CFR 600.1600. Draft Amendment 12 conducts the required review of SBRMs for HMS fisheries.

Also in 2017, NMFS issued a Fisheries Allocation Review Policy Directive and Procedures (01-119), which described a mechanism to ensure that fishery quota allocations are periodically reviewed and evaluated to remain relevant to current conditions, improve transparency, and minimize conflict for a process that is often controversial. Draft Amendment 12 reviews and proposes potential triggers for review of allocations of quota-managed HMS.

Finally, the HMS Stock Assessment and Fishery Evaluation (SAFE) Report is a public document that provides a summary of scientific information concerning the most recent biological condition of stocks, stock complexes, and marine ecosystems, essential fish habitat (EFH), and the social and economic condition of recreational and commercial HMS fishing interests, fishing communities, and the fish processing industries. National Standard 2 guidelines specify that SAFE reports summarize, on a periodic basis, the best scientific information available concerning the past, present, and possible future condition of the stocks, EFH, marine ecosystems, and fisheries being managed under Federal regulation. In 2008, NMFS published Amendment 2 to the 2006 Consolidated HMS FMP which, among other things, indicated that publication of the HMS SAFE Report would occur by the fall of each year. Draft Amendment 12 proposes adjusting the publication date of the HMS SAFE Report to account for unexpected delays (e.g., data availability, staff availability, furloughs, emergencies, etc.).

Draft Amendment 12 would be consistent with the revised 2016 NS guidelines, the 2017 SBRM rulemaking, and the 2017 Fisheries Allocation Review Policy Directive 01-119, along with other relevant statutes and the 2006 Consolidated Atlantic HMS FMP and its amendments. Draft Amendment 12 does not contain a proposed rule or regulatory text. Quotas or other fishery management measures will not be changed or affected as a result of this amendment. Any operational changes to fishery management measures as a result of Amendment 12 would be considered in future rulemakings, as appropriate. NMFS will take public comment into consideration before finalizing Draft Amendment 12, and its provisions may be altered or changed at the final amendment stage.

NMFS published a Notice of Availability of a scoping document for Amendment 12 on September 3, 2019 (84 FR 45941). The scoping period closed on November 4, 2019. Given that specific changes to fishery management measures are not proposed or evaluated in this amendment; NMFS does not expect any impacts. Furthermore, no extraordinary circumstances exist, and the action is not expected to be controversial. Thus, NMFS has preliminarily determined that Amendment 12 would appropriately be categorically excluded from further analysis under the National Environmental Policy Act (NEPA).

Public Hearings

Comments on Draft Amendment 12 may be submitted via www.regulations.gov (see ADDRESSES) and comments may also be submitted at a public hearing. NMFS solicits comments on this action by October 26, 2020. During the comment period, NMFS will hold two public hearings via conference call and webinar for Draft Amendment 12 (Table 1). In addition, NMFS anticipates presenting at the HMS Advisory Panel meeting in the fall of 2020, to discuss Draft Amendment 12.

Table 1—Dates and Times of Upcoming Webinars/Conference Calls
Venue | Date | Time | Instructions
Webinar | September 23, 2020 | 2-4 p.m. | Link: https://noaanmfs-meets.webex.com/noaanmfs-meets/j.php?MTID=m6d4223b580c2d26883b4ca44e1d35a7a. Meeting number: 199 162 5739; Password: D3Pn3hQt2J9. Join by phone: 1-415-527-5035; Access code: 199 162 5739.
Webinar | September 29, 2020 | 3-5 p.m. | Link: https://noaanmfs-meets.webex.com/noaanmfs-meets/j.php?MTID=m335138f7bf5bbac0518e97789ee49776. Meeting number: 199 054 2449; Password: yfSEgJW24d3. Join by phone: 1-415-527-5035; Access code: 199 054 2449

The public is reminded that NMFS expects participants at public webinars/conference calls to conduct themselves appropriately. At the beginning of each webinar/conference call, the moderator will explain how the webinar/conference call will be conducted and how and when participants can provide comments. NMFS representative(s) will structure the webinars/conference calls so that all members of the public will be able to comment, if they so choose, regardless of the controversial nature of the subject(s). Participants are expected to respect the ground rules, and those that do not may be asked to leave the webinars/conference calls.

Authority: 16 U.S.C. 971 et seq., and 1801 et seq.

Dated: August 20, 2020.
Samuel D. Rauch III,
Deputy Assistant Administrator for Regulatory Programs, National Marine Fisheries Service.

[FR Doc. 2020-18651 Filed 8-24-20; 8:45 am]

BILLING CODE 3510-22-P